OFFICE OF SCIENCE AND TECHNOLOGY POLICY

National Nanotechnology Coordination Office

AGENCY: Office of Science and Technology Policy.

ACTION: Notice of Public Webinar.

SUMMARY: The National Nanotechnology Coordination Office (NNCO), on behalf of the Nanoscale Science, Engineering, and Technology (NSET) Subcommittee of the Committee on Technology, National Science and Technology Council (NSTC), will hold a public webinar on Thursday, July 31, 2014. The purpose of this webinar is to provide a forum to answer questions related to the Federal Government's “Progress Review on the Coordinated Implementation of the National Nanotechnology Initiative (NNI) 2011 Environmental, Health, and Safety Research Strategy.” Discussion during the webinar will focus on the research activities undertaken by NNI agencies to advance the current state of the science as highlighted in the progress review. Representative research activities as provided in the Progress Review will be discussed in the context of the 2011 NNI EHS Research Strategy's six core research areas: Nanomaterial Measurement Infrastructure, Human Exposure Assessment, Human Health, the Environment, Risk Assessment and Risk Management Methods, and Informatics and Modeling.

DATES: The public webinar will be held on Thursday, July 31, 2014, from 12:00 p.m. to 13:00 p.m.

ADDRESSES: For information about the webinar, please visit www.nano.gov.

Submitting Questions: Questions on the progress review document may be submitted to webinar@nnco.nano.gov beginning at noon (EDT) Thursday, July 24, 2014, through the close of the webinar at 13:00 p.m. on Thursday, July 31, 2014.

The Webinar: During the question-and-answer segment of the webinar, submitted questions will be considered in the order received. A moderator will identify relevant questions and pose them to the panel of NNI agency representatives. Due to time constraints, not all questions may be addressed. The moderator reserves the right to group similar questions and to skip questions, as appropriate.

FOR FURTHER INFORMATION CONTACT: Dr. Tarek Fadel, 703-292-7926, tfadel@nnco.nano.gov.

SUPPLEMENTARY INFORMATION: A public copy of the “Progress Review on the Coordinated Implementation of the National Nanotechnology Initiative 2011 Environmental, Health, and Safety Research Strategy” can be accessed at www.nano.gov/2014EHSProgressReview. The 2011 NNI EHS Research Strategy can be accessed at www.nano.gov/node/681.

Ted Wackler,
Deputy Chief of Staff and Assistant Director.

[FR Doc. 2014-17189 Filed 7-21-14; 8:45 am]

BILLING CODE 3270-F4-P